DEPARTMENT OF TRANSPORTATION

Coast Guard

[Docket No. OST-1996-1437]

Privacy Act of 1974: System of Records

AGENCY: Coast Guard, DOT.

ACTION: Notice to establish a system of records.

SUMMARY: DOT proposes to establish a new system of records under the Privacy Act of 1974 and exempt the system from certain provisions of the Act.

EFFECTIVE DATE: June 3, 2002. If no comments are received, the proposal will become effective on the above date. If comments are received, the comments will be considered and, where adopted, the documents will be republished with changes.

ADDRESSES: To make sure your comments and related material are not entered more than once in the docket, please submit them by only one of the following means:

(1) By mail to the U.S. Department of Transportation, Docket Management Facility (OST-1996-1437), 400 7th Street, SW., Washington, DC 20590.

(2) By delivery to the NASSIF Building, 400 7th Street, SW., PL-401 Washington, DC room PL-401, between 9 a.m. and 5 p.m., Monday through Friday, except Federal holidays. The telephone number is 202-366-9317.

(3) By fax to the Docket Management Facility at 202-493-2251. Include the docket number OST-1996-1437.

(4) Electronically through the Website for the Docket Management System at http://dms.dot.gov. Include the docket number OST-1996-1437. The Docket Management Facility maintains the public docket for this rulemaking. Comments and material received from the public, as well as documents mentioned in this preamble as being available in the docket, will become part of this docket and will be available for inspection or copying at room PL-401 on the Plaza level of the NASSIF Building, 400 Seventh Street SW., Washington, DC between 9 a.m. and 5 p.m., Monday through Friday, except Federal holidays. You may also find this docket on the Internet at http://dms.dot.gov.

FOR FURTHER INFORMATION CONTACT: If you have questions on this notice, call Mr. Gary Chappell, Marine Safety Data Administration, Coast Guard, telephone 202-267-1061 or by email at gchappell@comdt.uscg.mil. If you have questions on viewing or submitting material to the docket, call Dorothy Beard, Chief, Dockets, Department of Transportation, telephone 202-366-9317.

SUPPLEMENTARY INFORMATION: The purpose of this notice is to propose the establishment of a system of records that maintains information regarding the operation, management, and decision-making functions of the Coast Guard as they pertain to marine safety, maritime security, maritime law enforcement, and marine environmental protection activities, to be known as the Marine Information for Safety and Law Enforcement system (MISLE). MISLE will replace, and thus retire, the Marine Safety Information System (MSIS). As of December 13, 2001, MSIS is no longer used to collect information; however, the information contained in MSIS will be retained for historical purposes in accordance with the MSIS Privacy Act Notice (DOT/CG 588). MISLE is an information system that will support the information needs and business processes of Marine Safety and Operations activities within the USCG.

MISLE may contain information on vessel owners, operators, charterers, managers, agents, crewmembers, or passengers; facility owners, operators, managers, or employees; individuals who own, operate, or represent marine transportation companies, and other individuals who come into contact with the Coast Guard through its Maritime Law Enforcement, Investigation, Marine Safety, Maritime Security, and Marine Environmental Protection activities. Information collected may include involved party (individual, company, government agency or organization) name, involved party identification number (IPN), Social Security number, Drivers License number, Foreign ID number, Passport number, VISA number, Immigration and Naturalization Service (INS) number, Military ID number, USCG License number, Cedula number, Foreign Seaman's Booklet number, resident alien number, Merchant Mariners License number, Merchant Mariner Documentation number, or taxpayer identification number (TIN).

A description of the steps taken to safeguard records contained in this system is given under the “Safeguards” heading of the Federal Register system of records notice. The Routine Uses described in the system of records notice satisfy the compatibility requirement of subsection (a)(7) of the Privacy Act, as they all support the operation, management, and decision-making functions of the USCG as they pertain to Marine Safety, Maritime Security, Maritime Law Enforcement, and Marine Environmental Protection.

DOT/CG 679

System name:

Marine Information for Safety and Law Enforcement (MISLE).

Security classification:

Unclassified, Sensitive.

System location:

U.S. Coast Guard (USCG), Operations Systems Center, 600 Coast Guard Drive, Kearneysville, WV 25430-3000.

Categories of individuals covered by the system of records:

Individuals with established relationship(s) and/or association(s) to vessels, facilities (including platforms, bridges, deep-water ports, marinas, terminals, and factories), and activities. Specifically, vessel owners, operators, charterers, managers, agents, crewmembers, or passengers; facility owners, operators, managers, or employees; individuals who own, operate, or represent marine transportation companies, and other individuals who come into contact with the Coast Guard through its law enforcement, investigation, marine safety, maritime security, and environmental protection activities.

Categories of records in the system:

a. Records containing information on vessels and their characteristics, including: vessel identification data, registration data, port visits, inspection data, documentation data, maritime safety and security boardings, casualties, pollution incidents, and violations of all laws and international treaties, if applicable, and information pertaining to individuals, companies, and organizations associated with those vessels such as owners, operators, agents, crew members, and passengers.

b. Records containing information on facilities and their characteristics, including: location, commodities handled, equipment, certificates, approvals, inspection data, pollution incidents, casualties, and violations of all laws and international treaties, if applicable, and information pertaining to individuals, companies, and organizations associated with those facilities such as owners, operators, managers and employees.

c. Records containing information on individuals, companies, government agencies, and other organizations associated with vessels, facilities (including platforms, bridges, deep water ports, marinas, terminals, and factories), and/or Coast Guard activities including: nationality, address, telephone number, and taxpayer or other identification number; relationship to vessels and facilities; their relationship to other individuals, companies, government agencies and organizations in MISLE; pollution incidents, casualties, and violations of all laws and international treaties.

d. Narratives submitted by USCG personnel describing activities performed on vessels and facilities, investigations of casualties and pollution incidents, and violations of all laws and international treaties. Such narratives may contain the names of individuals, such as owners, managers, employees, passengers, agents, or witnesses to the events described above. Electronic documents, photographs, videos and similar materials collected to support USCG activities or reports.

Authority for maintenance of the system:

46 U.S.C. 3717; 46 U.S.C. 12501; 33 U.S.C. 1223.

Purpose(s):

To implement and enforce marine safety, maritime security, maritime law enforcement, and marine environmental protection.

Routine uses of records maintained in the system, including categories of users and the purposes of such uses:

Issuance of Certificates of Documentation, Certificates of Inspections, maritime safety and security boardings, monitoring cargo transfers, capturing data on pollution incidents and casualties, and reporting of violations resulting from these incidents.

MISLE Records may be disclosed to the following:

1. U.S. Department of Defense and related entities including, but not limited to, the Military Sealift Command and the U.S. Navy, to provide safety and security information on vessels chartered or operated by those agencies. Federal, State, or local agencies with responsibility for investigating and/or enforcing violations of U.S. law. Federal agencies with responsibility for carrying out or supporting national security, including intelligence community agencies to the extent not prohibited by law. Federal, State, or local numbering and titling officials for the purpose of tracking, registering and titling vessels.

2. The U.S. Department of Labor and its related State counterparts for tracking personnel casualties.

3. The National Transportation Safety Board and its related State counterparts for safety investigation and transportation safety.

4. The International Maritime Organization (IMO) or intergovernmental organizations, nongovernmental organizations, or foreign governments in order to conduct joint investigations, operations, and inspections.

5. Federal, State, or local agencies with which the Coast Guard has a Memorandum of Understanding (MOU), Memorandum of Agreement (MOA), or Inspection and Certification Agreement (IAA) pertaining to Marine Safety, Maritime Security, Maritime Law Enforcement, and Marine Environmental Protection activities. See the DOT Prefatory Statement of General Routine Uses.

Disclosure to consumer reporting agencies:

None.

Policies and practices for storing, retrieving, accessing, retaining, and disposing of records in the system:

Storage:

Storage of all records is in an automated data processing (ADP) database operated and maintained by the USCG. All data are retained indefinitely.

Retrievability:

Records are retrieved by involved party (individual, company, government agency or organization) name, involved party identification number (IPN), Social Security number, Drivers License number, Foreign ID number, Passport number, VISA number, Immigration and Naturalization Service (INS) number, Military ID number, USCG License number, Cedula number, Foreign Seaman's Booklet number, resident alien number, Merchant Mariners License number, Merchant Mariner Documentation number, or taxpayer identification number (TIN).

Safeguards:

MISLE falls under the guidelines of the USCG Operations System Center (OSC) in Kearneysville, WV. This computer facility has its own approved System Security Plan, which provides that the system will be maintained in a secure computer room with access restricted to authorized personnel only. Access to the building must be authorized and is limited. A Sensitive Application Certification (SAC) has been approved for MISLE. The U.S. Coast Guard will operate MISLE in consonance with Federal security regulations, policy, procedures, standards and guidance for implementing the Automated Information Systems Security Program. Only authorized Department of Transportation personnel, and authorized U.S. Government contractors conducting system maintenance, may access MISLE records.

Access to records is password protected and the scope of access for each password is limited to the official need of each individual authorized access. USCG will ensure that users take precautions in accordance with OMB Circular A-130, Appendix III (regarding the Computer Security Act of 1987). Additional protection is afforded by the use of two-password security.

Retention and disposal:

Information collected by MISLE is stored indefinitely. All system hardware and data is stored at OSC, Kearneysville, WV. Backups are performed daily. Copies of backups are stored at an off-site location.

System manager(s) and address:

Department of Transportation, United States Coast Guard Headquarters, Chief, Office of Information Resources (G-MRI), 2100 2nd Street, SW., Washington, DC 20593-0001.

Notification procedures:

To determine if this system contains information on you, submit a written request that includes your name, mailing address, social security number and, if applicable, your merchant mariner license or document number, to the System Manager. You should also include the name and identifying number (documentation number, state registration number, International Maritime Organization (IMO) number, etc.) of any vessel with which you have been associated and the name and address of any facility (including platforms, bridges, deep water ports, marinas, terminals, and factories) with which you have been associated. You or your legal representative must sign the request. Send the request to the System Manager.

Record access procedures:

Same as Notification Procedures.

Contesting records procedures:

Same as Notification Procedures.

Record source categories:

All information entered into MISLE is gathered from inspections, boardings, investigations, documentation offices, and vessel notice of arrival reports in the course of normal routine business. This information is gathered from the owners, operators, crewmembers, agents, passengers, witnesses, employees, and USCG personnel.

Exemptions claimed for the system:

Portions of this system of records may be exempt under the provisions of 5 U.S.C. 552a(k)(2) from 5 U.S.C. 552a(c)(3), (d), (e)(4)(G), (e)(4)(H), (e)(4)(l), and (f).

OMB control number:

Not applicable.

Dated: April 15, 2002
Yvonne L. Coates
Privacy Act Coordinator

[FR Doc. 02-9774 Filed 4-19-02; 8:45 am]

BILLING CODE 4910-62-P